Title 3—

The President

Proclamation 9302 of July 24, 2015

Anniversary of the Americans with Disabilities Act, 2015

By the President of the United States of America

A Proclamation

Twenty-five years ago, the Americans with Disabilities Act (ADA) reaffirmed the idea that in America, all people are entitled to participate fully in our economy and democracy. A law deeply rooted in the principles of our Nation's founding, this landmark civil rights legislation recognized that all Americans have something to contribute to our country's story and deserve every chance to achieve their full potential. For a quarter-century, our Nation has fought to realize this law's enormous promise, and with hard work, we have helped expand what is possible so more of our friends, colleagues, and family members can live full and independent lives.

The product of tremendous effort, struggle, and sacrifice, the passage of the ADA was a victory won by countless Americans who refused to accept the world as it was and—against great odds—organized a grassroots movement to enshrine the principle of equality into law. One of the most comprehensive civil rights bills in the history of our country, the ADA promises fairness, opportunity, and complete participation in all aspects of American life for individuals with disabilities. It secures each person's right to independence, and it enables our society and our economy to benefit from the talents and contributions of all Americans by clearing obstacles to employment, transportation, public services, telecommunications, and public accommodations.

Today, as we celebrate this important anniversary and honor all those whose courage and dedication have driven our Nation's progress, we recognize that our work to uphold the spirit and the letter of this law is not yet finished. In communities throughout our country, barriers that limit our neighbors' potential have been torn down, but too many continue to encounter discrimination and structural inequalities that prohibit them from pursuing their dreams. Young people with disabilities continue to experience bullying in schools. Americans with disabilities who want to and can work are too often denied the dignity of a job. And many working Americans with disabilities still live below the poverty line.

My Administration is committed to addressing the unique challenges people with disabilities face as they seek to attain economic stability. Americans with disabilities deserve access to quality health care, affordable housing, inclusive financial institutions, and the innovative technologies that are transforming our world. That is why we have actively enforced the ADA, and why we have worked to toughen the protections against disability-based discrimination, increase accessibility in our communities, and expand opportunities for employment, education, and financial independence for people with disabilities. We have led by example within the Federal Government, and I am proud that there are now more Americans with disabilities working in Federal service than at any time in the past three decades. We continue to address bullying and harassment in our classrooms, ensuring every student has a nurturing environment in which to learn and grow. And because we know disability rights are human rights, we are championing protections and support for people with disabilities around the world.

Disability touches all of us. More than 50 million Americans have a disability, and living up to the principles of the ADA is an obligation we all share. Every person deserves equal access, equal opportunity, and equal respect, and we each must do our part to ensure our Nation's promise is within the reach of all Americans. As we reflect on 25 years of progress, let us reaffirm the inherent dignity and worth of every individual, and together, redouble our efforts to build a society where all things are possible for all people.

NOW, THEREFORE, I, BARACK OBAMA, President of the United States of America, by virtue of the authority vested in me by the Constitution and the laws of the United States, do hereby proclaim July 26, 2015, the Anniversary of the Americans with Disabilities Act. I encourage Americans across our Nation to celebrate the 25th anniversary of this civil rights law and the many contributions of individuals with disabilities.

IN WITNESS WHEREOF, I have hereunto set my hand this twenty-fourth day of July, in the year of our Lord two thousand fifteen, and of the Independence of the United States of America the two hundred and fortieth.

[FR Doc. 2015-18785

Filed 7-28-15; 11:15 am]

Billing code 3295-F5